AGENCY FOR INTERNATIONAL DEVELOPMENT

Board for International Food and Agricultural Development; Notice of Meeting

Pursuant to the Federal Advisory Committee Act, notice is hereby given of the one hundred and fortieth meeting of the Board for International Food and Agricultural Development (BIFAD). The meeting will be held from 8 a.m. to 1 p.m. on February 5, 2004 in the ground floor meeting room of the National Association of State Universities & Land Grant Colleges (NASULGC), at 1307 New York Avenue, NW., Washington, DC.

The BIFAD will hear a status report regarding revision of the CRSP Guidelines and a report on the status of the Request for Assistance (RFA) to procure the management entity for the next phase of the SANREM and IPM CRSPs. The Board will also be updated on the implementation of the BIFAD Long-Term Training initiative and hear the report from the East African Regional Training Assessment team. Recommendations from the BIFAD-commissioned study on USAID-university relationships will be considered.

The meeting is free and open to the public. Those wishing to attend the meeting or obtain additional information about BIFAD should contact Curtis Nissly, the Designated Federal Officer for BIFAD. Write him in care of the U.S. Agency for International Development, Ronald Reagan Building, Office of Agriculture and Food Security, 1300 Pennsylvania Avenue, NW., Room 2.11-085, Washington, DC, 20523-2110 or telephone him at (202) 712-1064 or fax (202) 216-3010.

Curtis Nissly,
USAID Designated Federal Officer for BIFAD, Office of Agriculture and Food Security, Bureau for Economic Growth, Agriculture and Trade.

[FR Doc. 04-279 Filed 1-6-04; 8:45 am]

BILLING CODE 6116-01-P